DEPARTMENT OF ENERGY

Commission To Review the Effectiveness of the National Energy Laboratories

AGENCY: Department of Energy.

ACTION: Notice of open meeting.

SUMMARY: This notice announces an open meeting of the Commission to Review the Effectiveness of the National Energy Laboratories (Commission). The Commission was created pursuant section 319 of the Consolidated Appropriations Act, 2014, Public Law 113-76, and in accordance with the provisions of the Federal Advisory Committee Act (FACA), as amended, 5 U.S.C. App. 2. This notice is provided in accordance with the Act.

DATES: Wednesday, April 22, 2015, 10:00 a.m.-3:30 p.m.

ADDRESSES: Hilton at Mark Center, Walnut Conference Room, 5000 Seminary Road, Alexandria, VA 22311.

FOR FURTHER INFORMATION CONTACT: Karen Gibson, Designated Federal Officer, U.S. Department of Energy, 1000 Independence Avenue SW., Washington, DC 20585; telephone (202) 586-3787; email crenel@hq.doe.gov.

SUPPLEMENTARY INFORMATION: Background: The Commission was established to provide advice to the Secretary on the Department's national laboratories. The Commission will review the DOE national laboratories for alignment with the Department's strategic priorities, clear and balanced missions, unique capabilities to meet current energy and national security challenges, appropriate size to meet the Department's energy and national security missions, and support of other Federal agencies. The Commission will also look for opportunities to more effectively and efficiently use the capabilities of the national laboratories and review the use of laboratory directed research and development (LDRD) to meet the Department's science, energy, and national security goals.

Purpose of the Meeting: This meeting is the eighth meeting of the Commission.

Tentative Agenda: The meeting will start at 10:00 a.m. on April 22. The tentative meeting agenda includes a look at cost considerations and the budget approval process for the national laboratories. Key presenters will address and discuss these topics with comments from the public. The meeting will conclude at 3:30 p.m. The agenda along with possible schedule adjustments will be posted when finalized and in advance of the meeting on the Lab Commission Web site (http://energy.gov/labcommission/commission-review-effectiveness-national-energy-laboratories).

Public Participation: The meeting is open to the public. Individuals who would like to attend must RSVP to Karen Gibson at email: crenel@hq.doe.gov. Please provide your name, organization, and contact information. Individuals and representatives of organizations who would like to offer comments and suggestions may do so at the end of the meeting. Approximately 30 minutes will be reserved for public comments. Time allotted per speaker will depend on the number who wish to speak but will not exceed 5 minutes. The Designated Federal Officer is empowered to conduct the meeting in a fashion that will facilitate the orderly conduct of business. Those wishing to speak should register to do so beginning at 10:00 a.m. on April 22. This notice was published less than 15 days due to a programmatic issue. Meeting information is available on the Commission's Web site.

Those not able to attend the meeting or who have insufficient time to address the committee are invited to send a written statement to Karen Gibson, U.S. Department of Energy, 1000 Independence Avenue SW., Washington DC 20585, or to email crenel@hq.doe.gov.

Minutes: The minutes of the meeting will be available on the Commission Web site at: http://energy.gov/labcommission

Issued in Washington, DC, on April 20, 2015.
LaTanya R. Butler,
Deputy Committee Management Officer.

[FR Doc. 2015-09564 Filed 4-23-15; 8:45 am]

BILLING CODE 6450-01-P